DEPARTMENT OF AGRICULTURE

Rural Utilities Service

Georgia Transmission Corporation, Notice of Availability of an Environmental Assessment

AGENCY: Rural Utilities Service, USDA.

ACTION: Notice of availability of an environmental assessment.

SUMMARY: Notice is hereby given that the Rural Utilities Service (RUS) is issuing an environmental assessment with respect to the potential environmental impacts related to the construction of approximately 7 miles of 230 kilovolt transmission line in Cobb County, Georgia. RUS may provide financing assistance to Georgia Transmission Corporation for the project.

FOR FURTHER INFORMATION CONTACT: Bob Quigel, Environmental Protection Specialist, Rural Utilities Service, Engineering and Environmental Staff, Stop 1571, 1400 Independence Avenue, SW., Washington, DC 20250-1571, telephone: (202) 720-0468. Bob's e-mail address is bquigel@rus.usda.gov. Information is also available from Susan Ingall of Georgia Transmission Corporation at (770) 270-7425. Susan's e-mail address is susan.ingall@gatrans.com.

SUPPLEMENTARY INFORMATION: Georgia Transmission Corporation proposes to construct the 230 kilovolt transmission line between the existing South Acworth Substation and the existing Hawkins Store Road Substation. The transmission line will be 7.1 miles long and will be located near Acworth and Kennesaw, Georgia, in northern Cobb County.

The proposed transmission line will require a 25 to 35-foot wide corridor adjacent to existing rights-of-way such as roads and railroads. Where the transmission line will not adjacent to an existing right-of-way a 100-foot wide corridor will be necessary. The transmission line will be suspended via concrete or steel single-pole structures which will support three conductors and an overhead ground wire. The support structures will average 75 to 80 feet in height and will be spaced approximately 500 to 600 feet apart.

Georgia Transmission Corporation prepared an environmental analysis for RUS which describes the project and assesses its environmental impacts. RUS has conducted an independent evaluation of the environmental analysis and believes that it accurately assesses the impacts of the proposed project. This environmental analysis will serve as RUS' environmental assessment of the project. No significant impacts are expected as a result of the construction of the project.

The environmental assessment can be reviewed at the Georgia Transmission Corporation headquarters located at 2100 East Exchange Place, Tucker, GA. This document will also be available at the Cobb County Law Library, 10 East Park Square, Marietta, Georgia 30090, telephone (770) 528-1884. It can also be reviewed at the headquarters of RUS at the address provided above.

Questions and comments should be sent to RUS at the address provided. RUS will accept questions and comments on the environmental assessment for at least 30 days from the date of publication of this notice.

Any final action by RUS related to the proposed project will be subject to, and contingent upon, compliance with all relevant Federal environmental laws and regulations and completion of environmental review procedures as prescribed by the 7 CFR Part 1794, Environmental Policies and Procedures.

Dated: November 21, 2000.
Lawrence R. Wolfe,
Acting Director, Engineering and Environmental Staff.

[FR Doc. 00-30097 Filed 11-24-00; 8:45 am]

BILLING CODE 3410-15-P